ENVIRONMENTAL PROTECTION AGENCY

[ER-FRL-9003-1]

Environmental Impacts Statements; Notice of Availability

Responsible Agency: Office of Federal Activities, General Information (202) 564-7146 or http://www.epa.gov/compliance/nepa/.

Weekly receipt of Environmental Impact Statements filed 05/07/2012 through 05/11/2012.

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120146, Final EIS, USFS, OR, Jackson Vegetation Management Project, Implementation, Paulina Ranger District, Ochoco National Forest, Crook and Wheeler Counties, OR, Review Period Ends: 06/18/2012, Contact: Jeff Marszal 541-416-6500.

EIS No. 20120147, Final Supplement, USFS, OR, Cobbler II Timber Sale and Fuels Reduction Project, Updated Information to Revise and Clarify Aspects of the Analyses Presented in the FEIS of October 2010, Proposing Vegetation and Fuels Management to Improve Health and Vigor Upland Forest Stands and Reduce Hazardous and Ladder Fuels, Walla Walla Ranger District, Umatilla National Forest, Wallowa and Union Counties, OR, Review Period Ends: 06/18/2012, Contact: Kimpton Cooper 509-522-6290.

EIS No. 20120148, Draft EIS, USFS, NM, La Jara Mesa Mine Project, Development, Operation and Mine Reclamation up to 20 Years, Approval, Mt. Taylor Ranger District, Cibola National Forest, Cibola County, NM, Comment Period Ends: 07/16/2012, Contact: Keith Baker 505-346-3820.

EIS No. 20120149, Draft Supplement, FTA, CA, Capitol Expressway Corridor Project, To Construct an Extension of the Capitol Light Rail System from Alum Rock Station to the Eastridge Transit Center, Santa Clara Valley Transportation Authority, City of San Jose, Santa Clara County, CA, Comment Period Ends: 07/03/2012, Contact: Eric Eidlin 415-744-2502.

EIS No. 20120150, Draft EIS, FHWA, CA, Interchange 5/State Route 56 Interchange Project, Connection between southbound I-5 to eastbound SR-56 and northbound SR 56 to northbound I-5, San Diego County, CA, Comment Period Ends: 07/02/2012, Contact: Manuel E. Sanchez 619-699-7336.

EIS No. 20120151, Final EIS, USFS, MT, Sparring Bulls Project, Proposes Timber Harvest, Non-commercial Fuels Reduction, Prescribed Burning, and Watershed Improvement Activities, Three Rivers Ranger District, Kootenai National Forest, Lincoln County, MT, Review Period Ends: 06/18/2012, Contact: Leslie McDougall 406-295-4693.

EIS No. 20120152, Draft EIS, FHWA, CA, San Diego Freeway (I-405) Improvement Project, between State Route 73 and Interstate 605, USACE Section 404 Permit, Orange and Los Angeles Counties, CA, Comment Period Ends: 07/02/2012, Contact: Tay Dam 213-605-2013.

EIS No. 20120153, Draft EIS, NOAA, 00, Southeastern U.S. Shrimp Fisheries, To Reduce Incidental Bycatch and Mortality of Sea Turtles, Tidally Influenced Waters and Substrates of the Gulf of Mexico and South Atlantic and its Estuaries of LA, MS, AL, and NC and extending out to the limit of the U.S. Exclusive Economic Zone, Comment Period Ends: 07/02/2012, Contact: Michael Barnette 727-824-5312.

EIS No. 20120154, Final EIS, USFWS, MT, Charles M. Russell National Wildlife Refuge and UL Bend National Wildlife Refuge prehensive Conservation Plan, To Provide Alternatives and Identify Consequences, Fergus, Petroleum, Garfield, McCone, Valley, and Phillips Counties, MT, Review Period Ends: 06/18/2012, Contact: Laurie Shannon 303-236-4317.

EIS No. 20120155, Final EIS, USFS, NC, Uwharrie National Forest, Proposed Land and Resource Management Resource Plan, Implementation, Montgomery, Randolph and Davidson Counties, NC, Review Period Ends: 06/18/2012, Contact: Ruth Berner 828-257-4862.

EIS No. 20120156, Draft Supplement EIS, USFS, AK,Bell Island Geothermal Leases, To Update Analysis in the Programmatic EIS to Address Roadless Concerns, Consideration for Lease Approval, Ketchikan-Misty Fiords Ranger District, Tongass National Forest, Ketchikan Gateway Borough, AK, Comment Period Ends: 07/02/2012, Contact: Sarah Samuelson 907-789-6274.

Amended Notices

EIS No. 20120073, Draft EIS, USACE, CA, Isabella Lake Dam Safety Modification Project, To Remediate Seismic, Seepage, and Hydrologic Deficiencies in the Main Dam, Spillway and Auxiliary Dam, Kern County, CA, Comment Period Ends: 05/22/2012, Contact: Tyler M. Stalker 916-557-5107.

Revision to FR Notice Published 03/23/2012; Extending Comment Period from 05/07/12 to 05/22/2012.

EIS No. 20120130, Final EIS, USFS, CA, Algoma Vegetation Management Project, Proposing to Protect and Promote Conditions of Late-Successional Forest Ecosystem on 4,666 Acres, Shasta-Trinity National Forest, Siskiyou County, CA, Review Period Ends: 06/11/2012, Contact: Emelia Barnum 530-926-9600.

Revision to FR Notice Published 05/04/2012; Correction to Title.

EIS No. 20120142, Draft EIS, USN, 00, Atlantic Fleet Training and Testing Activities, To Support and Conduct Current, Emerging, and Future Training and Testing Activities along the Eastern Coast of the U.S. and Gulf of Mexico, Comment Period Ends: 07/10/2012, Contact: Jene Nissen 757-836-5221.

Revision to FR Notice Published 05/11/2012; Extending Comment Period from 06/25/12 to 07/10/2012.

EIS No. 20120143, Draft EIS, USN, 00, Hawaii-Southern California Training and Testing Activities, To Support and Conduct Current, Emerging and Future Training and Testing Activities off Southern California and around the Hawaiian Islands, CA, HI, Comment Period Ends: 07/10/2012, Contact: Alex Stone 619-545-8128.

Revision to FR Notice Published 05/11/2012; Extending Comment Period from 06/25/12 to 07/10/2012.

Dated: May 15, 2012.
Cliff Rader,
Director, NEPA Compliance Division, Office of Federal Activities.

[FR Doc. 2012-12112 Filed 5-17-12; 8:45 am]

BILLING CODE 6560-50-P